DEPARTMENT OF COMMERCE

National Oceanic and Atmospheric Administration

50 CFR Part 660

[Docket No. 000831250-0250-01; I.D. 013100D]

Fisheries off West Coast States and in the Western Pacific; Coastal Pelagic Species Fisheries; Change in Pacific Mackerel Incidental Catch

AGENCY: National Marine Fisheries Service (NMFS), National Oceanic and Atmospheric Administration (NOAA), Commerce.

ACTION: Fishing restrictions.

SUMMARY: NMFS announces changes to the restriction on landings of Pacific mackerel for individuals participating in the coastal pelagic species (CPS) fishery and for individuals involved in other fisheries who harvest small amounts of Pacific mackerel. The incidental limit on landings of 20 percent by weight of Pacific mackerel in landings of Pacific sardine, northern anchovy, jack mackerel, and market squid remains in effect; however, CPS fishermen may land up to 1 metric ton (mt) of Pacific mackerel even if they land no other species from the trip. Non-CPS fisherman may land no more than 1 mt or Pacific mackerel per trip. After the harvest guideline of 20,740 mt is reached, all landings of Pacific mackerel will be restricted to 1 mt per trip. This action is authorized by the Coastal Pelagic Species Fishery Management Plan (FMP) and is intended to ensure that the fishery achieves, but does not exceed, the harvest guideline while minimizing the economic impact on small businesses.

DATES: Effective February 22, 2001.

FOR FURTHER INFORMATION CONTACT: James J. Morgan, Southwest Region, NMFS, 562-980-4036.

SUPPLEMENTARY INFORMATION: NMFS closed the directed fishery for Pacific mackerel in the exclusive economic zone (EEZ) off the Pacific coast at 12:01 a.m on October 27, 2000, and imposed an incidental landing limit of 20 percent by weight of Pacific mackerel in landings of Pacific sardine, jack mackerel, northern anchovy, and market squid (65 FR 65272, November 1, 2000, and 65 FR 69483, November 17, 2000). At the time of the closure, 17,829 mt of the 20,740-mt harvest guideline had been landed. The remaining 2,911 mt was needed to allow for an incidental landing of Pacific mackerel by vessels fishing for other coastal pelagic species so that restricting the harvest of other species would not be necessary.

The Pacific Fishery Management Council’s (Council) Coastal Pelagic Species Management Team has reviewed the conduct of the fishery through November and December, including the needs of the non-CPS fisheries. Section 2.4 of the FMP provides for setting a small incidental harvest for non-CPS fisheries to minimize discards, but until this action no provision had been made for these harvesters during this fishing season.

There also will be a need to implement further restriction on harvests of Pacific mackerel if the harvest guideline is reached before the end of the fishing season on June 30, 2001, so that bycatch can be minimized. As a result, the Council has recommended that no more than 1 mt of Pacific mackerel may be landed per trip by CPS and non-CPS fishermen after the harvest guideline is reached. This measure will be implemented when the harvest guideline is reached, and announced in the Federal Register. The NMFS Southwest Regional Administrator has decided to take this action in accordance with the FMP and its implementing rules. This action was reviewed by members of the Council’s Coastal Pelagic Species Advisory Subpanel, the Council, and the State of California.

For the reasons stated here and in accordance with the FMP and its implementing regulations, the following incidental limits are in effect for harvesters of Pacific mackerel:

No fishing vessel may land more than 1 mt of Pacific mackerel per fishing trip, except that fishing vessels with other CPS on board may land more than 1 mt of Pacific mackerel in a fishing trip if the total amount of Pacific mackerel on board the vessel does not exceed 20 percent by weight of the combined weight of all CPS on board the vessel.

Classification

This action is required by 50 CFR 660.509 and is exempt from review under Executive Order 12866.

Authority: 16 U.S.C. 1801 et seq.

Dated: February 14, 2001.
Bruce C. Morehead,
Acting Director, Office of Sustainable Fisheries, National Marine Fisheries Service.

[FR Doc. 01-4416 Filed 2-21-01; 8:45 am]

BILLING CODE 3510-22-S